DEPARTMENT OF THE TREASURY

Internal Revenue Service

26 CFR Part 1

[TD 9363]

RIN 1545-BD65

Returns Required on Magnetic Media; Correction

AGENCY: Internal Revenue Service (IRS), Treasury.

ACTION: Correction to final regulations.

SUMMARY: This document contains corrections to final regulations (TD 9363) that were published in the Federal Register on Tuesday, November 13, 2007 (72 FR 63807) relating to the requirements for filing corporate income tax returns and returns of organizations required to file returns under section 6033 on magnetic media pursuant to section 6011(e) of the Internal Revenue Code.

DATES: The correction is effective December 13, 2007.

FOR FURTHER INFORMATION CONTACT: Michael E. Hara, (202) 622-4910 (not a toll-free number).

SUPPLEMENTARY INFORMATION:

Background

The final regulations (TD 9363) that are the subject of this correction are under sections 6011, 6033 and 6037 of the Internal Revenue Code.

Need for Correction

As published, the final regulations (TD 9363) contain errors that may prove to be misleading and are in need of clarification.

Correction of Publication

Accordingly, the publication of the final regulations (TD 9363), which was the subject of FR Doc. E7-22147, is corrected as follows:

1. On page 63808, column 2, in the preamble, under the paragraph heading “1. Returns Covered”, line 11 from the bottom of the column, the language “990 series that are required to be filled” is corrected to read “990 series that are required to be filed”.

2. On page 63809, column 2, in the preamble, under the paragraph heading “4. Hardship Waiver”, lines 6 through 10 of the third paragraph of the column, the language “Providers for Form 1120/1120S; IRS Publication 4206, Modernized e-file information for Authorized e-file Providers of Exempt Organization Filings; and on the IRS.gov Internet site.” is corrected to read “Providers for Form 1120/1120S; and on the IRS.gov Internet site.”

LaNita Van Dyke,
Chief, Publications and Regulations Branch, Legal Processing Division, Associate Chief Counsel (Procedure and Administration).

[FR Doc. E7-24117 Filed 12-12-07; 8:45 am]

BILLING CODE 4830-01-P